DEPARTMENT OF TRANSPORTATION

Federal Aviation Administration

Notice of Submission Deadline for Schedule Information for John F. Kennedy International Airport, Los Angeles International Airport, Newark Liberty International Airport, and San Francisco International Airport for the Winter 2019/2020 Scheduling Season; Suspension of Level 2 at Chicago O'Hare International Airport

AGENCY: Department of Transportation, Federal Aviation Administration (FAA).

ACTION: Notice of submission deadline.

SUMMARY: Under this notice, the FAA announces the submission deadline of May 16, 2019, for winter 2019/2020 flight schedules at John F. Kennedy International Airport (JFK), Los Angeles International Airport (LAX), Newark Liberty International Airport (EWR), and San Francisco International Airport (SFO). The deadline coincides with the schedule submission deadline for the International Air Transport Association (IATA) Slot Conference for the winter 2019/2020 scheduling season. The FAA is suspending the Level 2 (runway) designation at Chicago O'Hare International Airport (ORD) for the winter 2019/2020 season; therefore, schedules will not need to be submitted to the FAA for service to/from ORD. This notice also reminds carriers of the upcoming deadline to comply with Automatic Dependent Surveillance-Broadcast Out (“ADS-B Out”) equipage requirements and advises carriers of the potential consequences of non-equipage.

DATES: Schedules must be submitted no later than May 16, 2019.

ADDRESSES: Schedules may be submitted by mail to the Slot Administration Office, AGC-200, Office of the Chief Counsel, 800 Independence Avenue SW, Washington, DC 20591; facsimile: 202-267-7277; or by email to: 7-AWA-slotadmin@faa.gov.

FOR FURTHER INFORMATION CONTACT: Bonnie C. Dragotto, Manager (Acting), Slot Administration, Federal Aviation Administration, 800 Independence Avenue SW, Washington, DC 20591; telephone (202) 267-3808; email Bonnie.Dragotto@faa.gov.

SUPPLEMENTARY INFORMATION: This document provides routine notice to carriers serving capacity-constrained airports in the United States, announces updates to schedule submission procedures that will better reflect operational conditions at those airports, and provides information regarding the upcoming ADS-B Out compliance deadline. The FAA routinely reviews operational performance at capacity-constrained airports and only applies scheduling limits or procedures for reviewing schedules, as needed. The FAA will temporarily suspend the Level 2 designation for ORD, effectively reverting to Level 1 for the upcoming Winter 2019/2020 scheduling season. The FAA's review of the Level 2 designations at LAX, ORD, and SFO is ongoing.

General Information for All Airports

The FAA has previously designated EWR, LAX, ORD, and SFO as IATA Level 2 airports ¹ and JFK as an IATA Level 3 airport consistent with the Worldwide Slot Guidelines (WSG). The FAA currently limits scheduled operations at JFK by order until October 24, 2020.²

¹ These designations will remain effective at these airports until the FAA announces a change in the Federal Register. This notice suspends ORD on a trial basis for the winter 2019/2020 scheduling season.

² Operating Limitations at John F. Kennedy International Airport, 73 FR 3510 (Jan. 18, 2008), as amended 83 FR 46865 (Sep. 17, 2018).

The FAA is primarily concerned about scheduled and other regularly conducted commercial operations during peak hours, but carriers may submit schedule plans for the entire day. At LAX and SFO, the peak hours for the winter 2019/2020 scheduling season are from 0600 to 2300 Pacific Time (1400 to 0700 UTC), and at EWR and JFK from 0600 to 2300 Eastern Time (1100 to 0400 UTC). These hours are unchanged from previous scheduling seasons. Carriers should submit schedule information in sufficient detail including, at minimum, the marketing or operating carrier, flight number, scheduled time of operation, frequency, aircraft equipment, and effective dates. IATA standard schedule information format and data elements for communications at Level 2 and Level 3 airports in the IATA Standard Schedules Information Manual (SSIM) Chapter 6 may be used. The WSG provides additional information on schedule submissions at Level 2 and Level 3 airports.

The U.S. winter scheduling season is from October 27, 2019, through March 28, 2020, in recognition of the IATA northern winter scheduling period. The FAA understands there may be differences in schedule times due to different U.S. daylight saving time dates and will accommodate these differences to the extent possible.

As stated in the WSG, schedule facilitation at a Level 2 airport is based on schedule adjustments mutually agreed between the airlines and the facilitator; the intent is to avoid exceeding the airport's coordination parameters; the concepts of historic precedence and series of slots do not apply at Level 2 airports; and the facilitator should adjust the smallest number of flights by the least amount of time necessary to avoid exceeding the airport's coordination parameters. Consistent with the WSG, the success of Level 2 in the U.S. depends on the voluntary cooperation of all carriers.

The FAA considers several factors and priorities as it reviews schedule requests at Level 2 airports, which are consistent with the WSG, including—services from the previous equivalent season over new demand for the same timings, services that are unchanged over services that plan to change time or other capacity relevant parameters, introduction of year-round services, effective period of operation, regularly planned operations over ad hoc operations, and other operational factors that may limit a carrier's timing flexibility. In addition to applying these Level 2 priorities from the WSG, the U.S. Government has adopted a number of measures and procedures to promote competition and new entry at U.S. slot controlled and schedule facilitated airports.

At Level 2 airports, the FAA seeks to improve communications with carriers and schedule facilitators on potential runway schedule issues or terminal and gate issues that may affect the runway times. The FAA also seeks to reduce the time that carriers consider proposed offers on schedules. Retaining open offers for extended periods of time may delay the facilitation process for the airport. Reducing this delay is particularly important to allow the FAA to make informed decisions at airports where operations in some hours are at or near the scheduling limits. The agency recognizes that there are circumstances that may require some schedules to remain open. However, the FAA expects to substantially complete the review process on initial submissions each scheduling season within 30 days of the end of the Slot Conference. After this time, the agency would confirm the acceptance of proposed offers, as applicable, or issue a denial of schedule requests. At Level 3 airports, the FAA follows the slot offer and acceptance procedures set forth in the WSG.

Slot management in the United States differs in some respect from procedures in other countries. In the United States, the FAA is responsible for facilitation and coordination of runway access for takeoffs and landings at Level 2 and Level 3 airports; however, the airport authority or its designee is responsible for facilitation and coordination of terminal/gate/airport facility access. The process with the individual airports for terminal access and other airport services is separate from, and in addition to, the FAA schedule review based on runway capacity. Approval from the FAA for runway availability and the airport authority for airport facility availability is necessary before implementing schedule plans. Contact information for Level 2 and Level 3 airports is available at http://www.iata.org/policy/slots/Pages/slot-guidelines.aspx.

Generally, the FAA uses average hourly runway capacity throughput for airports and performance metrics in its schedule review at Level 2 airports and for the scheduling limits at Level 3 airports.³ The FAA also considers other factors that can affect operations, such as capacity changes due to runway, taxiway, or other airport construction, air traffic control procedural changes, airport surface operations, and historical or projected flight delays and congestion.

³ The FAA typically determines an airport's average adjusted runway capacity or throughput for Level 2 and Level 3 airports by reviewing hourly data on the arrival and departure rates that air traffic control indicates could be accepted for that hour, commonly known as “called” rates. The FAA also reviews the actual number of arrivals and departures that operated in the same hour. Generally, the FAA uses the higher of the two numbers, called or actual, for identifying trends and schedule review purposes. Some dates are excluded from analysis, such as during periods when extended airport closures or construction could affect capacity.

Finally, the FAA notes that the schedule information submitted by carriers to the FAA may be subject to disclosure under the Freedom of Information Act (FOIA). The WSG also provides for release of information at certain stages of slot coordination and schedule facilitation. In general, once it acts, the FAA may release information on slot allocation or similar slot transactions or schedule information reviewed as part of the schedule facilitation process. The FAA does not expect that practice to change and most slot and schedule information would not be exempt from release under FOIA. The FAA recognizes that some carriers may submit information on schedule plans that is not available to the public and may be considered by the carrier to be proprietary. Carriers that submit slot or schedule information deemed proprietary should clearly mark such information accordingly. The FAA will take the necessary steps to protect properly designated information to the extent allowable by law.

JFK Schedules

The Port Authority of New York and New Jersey (PANYNJ) plans construction on JFK Runway 13L/31R that will close the runway from April 1, 2019, through November 15, 2019. The FAA developed an operational “playbook” for runway configurations that would be used under various weather and operating conditions while Runway 13L/31R is closed. The FAA will continue to work closely with the airport, carriers, and other operators to efficiently manage operations. The PANYNJ meets regularly with carriers and other stakeholders to discuss construction plans and consults with the FAA and local air traffic control facilities to minimize operational impacts. Carriers should contact the PANYNJ for the latest information on airport construction plans.

EWR Schedules

The FAA is continuing to monitor operations and delays at EWR and to identify ways to improve performance metrics and operational efficiency, and achieve delay reductions in a Level 2 environment. Demand for access to EWR and the New York City area remains high. Recent requests for flights at EWR have exceeded the scheduling limits in the early morning and for multiple hours in the afternoon and evening from 1300-2159 Eastern Time. The FAA has regularly advised carriers that it would not be able to accommodate requests for new or retimed operations into peak hours and worked with carriers to identify alternative times that were available. In some cases, carriers have been able to swap with other carriers for their preferred times. Carriers may continue to seek swaps in order to operate within the peak, but are ultimately expected to operate according to the FAA's approved runway times. The FAA also continues to seek the voluntary cooperation of all carriers operating in peak hours to retime operations out of the peak to meet the scheduling limits described below and improve performance at EWR, benefitting all carriers and passengers.

For the winter 2019/2020 season, the hourly scheduling limit remains at 79 operations and 43 operations per half-hour. To help with a balance between arrivals and departures, the maximum number of scheduled arrivals or departures, respectively, is 43 in an hour and 24 in a half-hour. This would allow some higher levels of operations in certain periods (not to exceed the hourly limits) and some recovery from lower demand in adjacent periods. The FAA will accept flights above the limits if the flights were operated on a regular basis in winter 2018/2019, but again, the FAA seeks cooperation of carriers to retime operations out of the peak period. Additionally, the FAA will consider whether demand exceeds the limits in adjacent periods and consider average demand before determining whether there is availability for new flights in a particular period. However, the operational performance of the airport is unlikely to improve unless peak demand is reduced and schedules are adjusted within the airport's arrival and departure limits.

The FAA notes that despite efforts to facilitate voluntary scheduling cooperation at EWR, and reductions in the hourly scheduling limits,⁴ there are periods when the demand in half-hours or consecutive half-hours exceeds the optimum runway capacity and the scheduling limits in this notice. The imbalance of scheduled arrivals and departures in certain periods has contributed to increased congestion and delays when the demand exceeds the arrival or departure rates. In particular, retiming a minimal number of arrivals in the early afternoon hours from the 1400 local hour to the 1300 and 1200 hours could have significant delay reduction benefits.

⁴ The FAA has reduced the hourly scheduling limits from 81 per hour to 79 and effective with the winter 2018/2019 season, applied additional half-hour and arrival and departure limits. The FAA explained that operations approved previously at the higher limits and operated in the prior season would be accepted by the FAA even if they were above the limits, but new flights would not be approved above the current scheduling limits. The FAA continues to encourage carriers to retime flights to less congested periods to keep operations at or below the new scheduling limit to improve performance at the airport.

Based on historical demand, the FAA anticipates the 0700 to 0859 and 1330 to 2059 local hours to be unavailable for new flights and very limited availability is expected for new flights in the 2100 local hour. Consistent with the WSG, carriers should be prepared to adjust schedules to meet the hourly limits in order to minimize potential congestion and delay. Carriers are again reminded that runway approval must be obtained from the FAA in addition to any requirements for approval from airport terminal or other facilities prior to operation.

EWR Reference Identification Numbers for Administrative Tracking Purposes

At U.S. slot controlled airports,⁵ the FAA typically assigns slot identification numbers for administrative tracking purposes, primarily to U.S. and Canadian carriers, rather than tracking slot allocations by flight number. Using slot identification numbers has reduced the burden for the carriers and the FAA to update allocation records at Level 3 airports based on changes to flight number, scheduled time within the same slot window, aircraft type, and similar changes that do not impact the FAA's runway slot allocation. In addition, the identification number allows carriers to specify a slot for transfer or swap purposes and for the FAA and carriers to have a common reference for determining slot allocations at any given point. Most of the larger slot holders have slot software that uses the slot identification number to manage the carrier's slot portfolio, schedule and comparisons, actual operations and usage, and related functions.

⁵ Currently, JFK is the only U.S. airport designated as a Level 3 under the WSG. The FAA previously designated ORD and EWR as Level 3 before changing the designation to Level 2. In addition, the FAA has adopted slot controls at LaGuardia Airport and Ronald Reagan Washington National Airport.

As indicated previously, the demand at EWR is at or above the current scheduling limits in multiple hours. The FAA has worked with carriers to limit flights in the busiest hours, but has accepted flights above the reduced scheduling limits if operated in the previous equivalent scheduling season. The FAA has determined that since the majority of operations at EWR are conducted by U.S. and Canadian carriers, using an administrative tracking number similar to the slot identification number for operations conducted by these carriers would provide administrative benefits without creating any significant burden. Using such “reference identification (ID) numbers” under Level 2 is expected to help carriers manage and track their prior season schedules and operations when submitting requests for subsequent seasons, facilitate swaps between carriers when the FAA is unable to accommodate schedule changes, and allow streamlined tracking and reporting of scheduled activity at the airport. The FAA will begin to offer this alternative reference ID tracking process to carriers on a voluntary basis beginning with the winter 2019/2020 season. There are no required changes to the schedule and data exchange process and carriers can continue to use the current WSG and IATA SSIM Chapter 6 formats. The FAA may assign reference ID numbers to operations of carries that do not opt into the use of reference IDs for FAA's internal tracking purposes, as appropriate.

The implementation of reference IDs at EWR is for administrative tracking purposes only and does not reflect a change in policy for Level 2 at EWR. The FAA has discussed the planned use of reference ID numbers at EWR with a number of U.S. and Canadian carriers at the IATA Slot Conference held in November 2018 and a subsequent conference hosted by Airlines for America. Carriers may notify the FAA Slot Administration Office by email at 7-awa-slotadmin@faa.gov of their intent to use reference ID numbers. Notification in advance of the schedule submission deadline for winter 2019/2020 implementation is preferred. The FAA will work with individual carriers that opt to participate by providing the alternative reference ID numbers to use for baseline schedules and proposed changes for the winter 2019/2020 season.

Level 2 Updates

The FAA is reviewing the Level 2 designations based on runway capacity at ORD, LAX, and SFO to determine if the designations continue to be necessary for future scheduling seasons. Preliminary data reflects that scheduled demand is within typical capacity at these airports. However, additional considerations may warrant continuing the Level 2 schedule review process. The FAA intends to conduct additional modeling and analysis, as appropriate, in the coming months to assess whether continuing Level 2 at these airports would provide substantive benefits to the traveling public by reducing potential runway congestion and delay. The FAA also intends to engage in the coming months with airport operators, carriers, and other stakeholders at the respective airports to discuss the Level 2 process. The FAA is not proposing any changes to the Level 2 designation at EWR in this notice.

The FAA designated SFO as Level 2 effective in 2012 as a result of low on time performance relative to other airports, expected growth in scheduled demand, and runway construction.⁶ LAX was designated Level 2 in 2015 based on multiple runway construction projects that were planned through 2018.⁷ LAX has additional runway construction planned for January to May 2021 and the FAA's review of whether to continue Level 2 at LAX will include consideration of the potential to manage congestion and delay during that closure using the schedule review process.

⁶ Submission Deadline for Schedule Information for San Francisco International Airport for the Summer 2012 Scheduling Season, 76 FR 64163 (Oct. 17, 2011).

⁷ Notice of Submission Deadline for Schedule Information for Los Angeles International Airport for the Summer 2015 Scheduling Season, 80 FR 12253 (Mar. 6, 2015).

The FAA designated ORD as Level 2 in 2008 to allow for a smoother transition as Level 3 was phased out due to increased capacity from the opening of a new runway in November 2008.⁸ The FAA concluded that Level 2 was necessary to facilitate the scheduling of operations so that the airport would not suffer from periods of overscheduling as it adjusts to new capacity and as modernization plans continued. The O'Hare Modernization Program added new runways and realigned previously intersecting runways. The typical hourly runway capacity has increased from the 180's when the airport was Level 3 to 214 currently.

⁸ Notice of Submission Deadline for Schedule Information for O'Hare International, John F. Kennedy International, and Newark Liberty International Airport for the Summer 2009 Scheduling Season, 73 FR 54659 (Sep. 22, 2008).

The FAA has determined to suspend the ORD Level 2 designation for the winter 2019/2020 scheduling season while it continues its review. Scheduled demand has remained within the typical runway capacity and winter season schedules are typically below the peak summer schedules. The FAA is not aware of upcoming plans by any carriers to make major schedule bank changes that could significantly increase peaking or exceed the airport's capacity. This trial suspension for the winter 2019/2020 scheduling season will reduce the burden associated with the schedule submission and administrative review process. The FAA's suspension is for runway review only and does not change the airport's Level 2 Terminal designation. Carriers must continue to work with the terminal facilitator on schedule review consistent with prior seasons.

The FAA's review of the Level 2 designations at LAX, ORD, and SFO is expected to be completed during summer 2019 and additional information, including any changes to the current designations at these airports, would be announced in the schedule submission notice for the summer 2020 season.

ADS-B Out Compliance

In 2010, the FAA issued a final rule prescribing equipage requirements and performance standards for ADS-B Out equipment on aircraft operating in certain airspace after January 1, 2020.⁹ ADS-B Out equipment is an advanced surveillance technology that makes an aircraft's precise position readily available to ground stations and other aircraft. The technology combines an aircraft's positioning source, aircraft avionics, and a ground infrastructure to create an accurate surveillance interface between aircraft and air traffic control (ATC). Use of ADS-B Out will move ATC from a radar-based system to an aircraft location system based on satellite-derived position and velocity.

⁹ Final Rule, Automatic Dependent Surveillance-Broadcast (ADS-B) Out Performance Requirements to Support Air Traffic Control (ATC), 75 FR 30160 (May 28, 2010).

The FAA published an additional Statement of Policy for Authorizations to Operators of Aircraft That are Not Equipped With Automatic Dependent Surveillance-Broadcast (ADS-B) Out Equipment on April 1, 2019.¹⁰ All carriers are strongly urged to review the requirements of 14 CFR 91.225 and the April 1, 2019, notice. The FAA expects that scheduled operators routinely operating into ADS-B Out airspace have made plans to equip aircraft for operation in ADS-B Out airspace in time for the January 1, 2020, deadline and these operators should not expect to obtain authorizations for non-equipped aircraft. While a scheduled operator may request a deviation from the ADS-B Out equipage requirements on a per operation basis in accordance with § 91.225(g), it is unlikely that the FAA will issue repeated authorizations to deviate from ADS-B Out equipage requirements. Relying solely on an ATC authorization—which may not be granted—to operate a non-equipped aircraft in ADS-B Out airspace would put scheduled operations in jeopardy. In addition, unscheduled operators with a need to access this airspace on more than an occasional basis should equip with ADS-B Out to ensure no disruption to operations. Given the complex and dynamic nature of operations within ADS-B airspace, it is unlikely that ATC will prioritize authorization requests for unequipped aircraft over providing air traffic services to aircraft equipped with ADS-B Out.

¹⁰ 84 FR 12062. This notice explains how ATC will manage § 91.225(g) and issue authorizations to operators of aircraft that have not equipped with ADS-B Out.

At slot controlled airports in the U.S., any carrier that does not equip in accordance with 14 CFR 91.225 could risk loss of allocated slots if minimum slot usage requirements are not met.¹¹ Slot holders are expected to fully comply with all applicable U.S. aviation regulations. The FAA will not issue waivers of the minimum usage requirements for failure to equip or obtain an authorization as required by FAA regulation.¹² At Level 2 airports in the U.S., the baseline for future corresponding seasons will continue to depend on actual operations into the airport. A scheduled operation that is not completed due to failure to equip or obtain an authorization will not count toward the carrier's baseline operations for the following corresponding season.

¹¹ See e.g. supra, note 2.

¹² Id. at 46867 (The Administrator of the FAA may waive the 80% usage requirement in the event of a highly unusual and unpredictable condition which is beyond the control of the carrier and which affects carrier operations for a period of five consecutive days or more).

Issued in Washington, DC, on April 25, 2019.
Virginia Boyle,
Deputy Vice President (Acting), System Operations Services.

[FR Doc. 2019-08862 Filed 4-30-19; 8:45 am]

BILLING CODE 4910-13-P